DEPARTMENT OF THE INTERIOR

National Park Service

Notice of Inventory Completion: City of Larsen Bay, Larsen Bay, AK and Alutiiq Museum and Archaeological Repository, Kodiak, AK

AGENCY: National Park Service, Interior.

ACTION: Notice.

Notice is here given in accordance with the Native American Graves Protection and Repatriation Act (NAGPRA), 25 U.S.C. 3003, of the completion of an inventory of human remains and associated funerary objects in control of the City of Larsen Bay, Larsen Bay, AK, and in the possession of Alutiiq Museum and Archaeological Repository, Kodiak, AK. The human remains were removed from Larsen Bay, AK.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by Alutiiq Museum and Archaeological Repository professional staff on behalf of the City of Larsen Bay in consultation with representatives of the Native Village of Larsen Bay.

In 1987 and 1988, human remains representing a minimum of five individuals were removed from the Uyak site (49-KOD-00145) in Larsen Bay, AK, during an excavation led by Amy Steffian, a graduate archeology student from the University of Michigan. In August of 1987, the human remains of one individual were shipped to Bryn Mawr College, Bryn Mawr, PA, for storage and study under the care of Dr. Richard Jordan, an archeologist, in Bryn Mawr College's Department of Anthropology. In 1988, Dr. Jordan moved to Fairbanks and took the entire Uyak site collection with him for storage at the University of Alaska, Department of Anthropology. In August of 1988, the human remains of four individuals from the second season of fieldwork were shipped to Dr. Jordan at the University of Alaska Fairbanks, Department of Anthropology. After Dr. Jordan's death in 1991, the entire collection was moved to the University of Alaska Museum. In the summer of 1995, at the request of the City of Larsen Bay, the owner of the Uyak site, the entire collection was transferred to the Alutiiq Museum and Archaeological Repository (number AM3). No known individuals were identified. The nine funerary objects are one large coal labret, one ground slate projectile point, one bone wedge, one toggling harpoon, one leister prong, one piece of worked antler, one coal bead, one coal bead preform, and one ground slate ulu fragment.

The Uyak site is a large prehistoric settlement occupied during both the Kachemak and Koniag traditions. The eastern portion of the site contained the remains of a Late Kachemak village, where well-preserved shell midden deposits surrounded a set of single-roomed semisubterranean houses dating between 950 - 1300 B.P. The human remains were found in association with prehistoric strata, indicating that the human remains are associated with the occupation of the village. Archeologists believe that the people of the Late Kachemak tradition are ancestral to modern day Alutiiqs. Archeological data collected over the past 20 years indicates that Late Kachemak societies evolved into the more complexly organized societies of the Koniag tradition observed at historic contact in the late 18th century. As such, the human remains from the Uyak site are reasonably believed to be Native American and most closely affiliated with the contemporary Native residents of the Kodiak archipelago, the Kodiak Alutiiq. Specifically, the human remains are from an area of the Kodiak archipelago traditionally used by members of the Native Village of Larsen Bay.

In 1991, human remains representing a minimum of three individuals were removed from the Alexander Creek Site (49-KOD-00142) in Larsen Bay, AK, by Mike Yarborough during excavations prior to a water main installation project conducted by the Alaska Public Health Service. In July 1996, the human remains were transferred to the Alutiiq Museum and Archaeological Repository (number AM 234) at the request of the City of Larsen Bay. No known individuals were identified. No associated funerary objects are present.

The Alexander Creek site lies in the City of Larsen Bay, AK, on southwestern Kodiak Island, under and around the intersection of First and Third Streets, and contains both historic and prehistoric components. All of the human remains were recovered from the prehistoric context found in association with midden deposits that produced a radiocarbon dated of circa 350 B.P. This places the prehistoric occupation of the site in the Developed Koniag phase of the Koniag tradition, just prior to contact, and indicates that the human remains are those of ancestral Alutiiqs. Specifically, the human remains are from an area traditionally used by members of the Native Village of Larsen Bay.

Officials of the City of Larsen Bay and Alutiiq Museum and Archaeological Repository have determined that, pursuant to 25 U.S.C. 3001 (9-10), the human remains described above represent the physical remains of eight individuals of Native American ancestry. Officials of the City of Larsen Bay and Alutiiq Museum and Archaeological Repository also have determined that, pursuant to 25 U.S.C. 3001 (3)(A), the nine objects described above are reasonably believed to have been placed with or near individual human remains at the time of death or later as part of the death rite or ceremony. Lastly, officials of the City of Larsen Bay and Alutiiq Museum and Archaeological Repository have determined that, pursuant to 25 U.S.C. 3001 (2), there is a relationship of shared group identity that can be reasonably traced between the Native American human remains and associated funerary objects and the Native Village of Larsen Bay.

Representatives of any other Indian tribe that believes itself to be culturally affiliated with the human remains and associated funerary objects should contact Allen Panamaroff, Mayor, City of Larsen Bay,

P.O. Box 8, Larsen Bay, AK 99624, telephone (907) 847-2211, before February 14, 2008. Repatriation of the human remains and associated funerary objects to the Native Village of Larsen Bay may proceed after that date if no additional claimants come forward.

Alutiiq Museum and Archaeological Repository is responsible for notifying the Native Village of Larsen Bay that this notice has been published.

Dated: December 7, 2007.
Sherry Hutt,
Manager, National NAGPRA Program.

[FR Doc. E8-622 Filed 1-14-08; 8:45 am]

BILLING CODE 4312-50-S